DEPARTMENT OF THE INTERIOR

Bureau of Land Management

[ES-960-9820-BK-ES02] [ES-50589, Group 184, Minnesota]

Notice of Filing of Plat of Survey; Minnesota

The plat of the dependent resurvey of the south boundary of section 18, Township 146 North, Range 26 West, 5th Principal Meridian, Minnesota, will be officially filed in Eastern States, Springfield, Virginia at 7:30 a.m., on March 7, 2000.

The survey was requested by the U.S. Forest Service.

All inquiries or protests concerning the technical aspects of the survey must be sent to the Chief Cadastral Surveyor, Eastern States, Bureau of Land Management, 7450 Boston Boulevard, Springfield, Virginia 22153, prior to 7:30 a.m., March 7, 2000.

Copies of the plat will be made available upon request and prepayment of the appropriate fee.

Dated: January 21, 2000.
Stephen G. Kopach,
Chief Cadastral Surveyor.

[FR Doc. 00-3269 Filed 2-10-00; 8:45 am]

BILLING CODE 4310-GJ-P